DEPARTMENT OF TRANSPORTATION

Surface Transportation Board

[STB Finance Docket No. 34320]

Union Pacific Railroad Company—Trackage Rights Exemption—The Burlington Northern and Santa Fe Railway Company

The Burlington Northern and Santa Fe Railway Company (BNSF) has agreed to grant overhead trackage rights to Union Pacific Railroad Company (UP) over a BNSF line of railroad between BNSF milepost 203.0 near Keddie, CA, and BNSF milepost 0.0 near Klamath Falls, OR,¹ a distance of approximately 203.0 miles.²

¹ On March 7, 2003, UP and BNSF filed a petition for partial revocation of this class exemption in STB Finance Docket No. 34320 (Sub-No. 1), Union Pacific Railroad Company—Trackage Rights Exemption—The Burlington Northern and Santa Fe Railway Company, wherein UP and BNSF request that the Board permit the proposed overhead trackage rights arrangement described in the present proceeding to expire on or about May 22, 2003. That petition will be addressed by the Board in a separate decision.

² By amendment filed March 12, 2003, a representative of UP indicates that the correct distance of the involved trackage is 203.0 miles in lieu of 202.5 miles as initially stated.

The transaction was scheduled to be consummated on March 16, 2003. The purpose of the temporary trackage rights is to facilitate maintenance work on UP's lines.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34320, must be filed with the Surface Transportation Board, 1925 K Street, NW, Washington, DC 20423-0001. In addition, a copy of each pleading must be served on Robert T. Opal, 1416 Dodge Street, Room 830, Omaha, NE 68179.

Board decisions and notices are available on our Web site at “http://www.stb.dot.gov.”

Decided: March 18, 2003.
By the Board, David M. Konschnik, Director, Office of Proceedings.
Vernon A. Williams,
Secretary.

[FR Doc. 03-6922 Filed 3-25-03; 8:45 am]

BILLING CODE 4915-00-P